FINANCIAL STABILITY OVERSIGHT COUNCIL

Supplemental Procedures Relating to Nonbank Financial Company Determinations

AGENCY: Financial Stability Oversight Council.

ACTION: Notice of document availability.

SUMMARY: This notice announces the availability of “Supplemental Procedures Relating to Nonbank Financial Company Determinations” (Supplemental Procedures).

DATES: Effective [DATE TBD].

ADDRESSES: Copies of the Supplemental Procedures are located on the Financial Stability Oversight Council Web site, available at www.fsoc.gov.

FOR FURTHER INFORMATION CONTACT: Requests for additional information should be directed to Deputy Assistant Secretary for the Financial Stability Oversight Council, Department of the Treasury, 1500 Pennsylvania Avenue NW., Washington, DC 20220.

SUPPLEMENTARY INFORMATION: Section 113 of the Dodd-Frank Wall Street Reform and Consumer Protection Act (the Dodd-Frank Act) authorizes the Financial Stability Oversight Council (the Council) to determine that a nonbank financial company shall be supervised by the Board of Governors of the Federal Reserve System and be subject to enhanced prudential standards if the Council determines that material financial distress at the company, or the nature, scope, size, scale, concentration, interconnectedness, or mix of the activities of the company, could pose a threat to the financial stability of the United States.

The Council has conducted a review of its practices related to the evaluation of nonbank financial companies under section 113 of the Dodd-Frank Act. The Council's review included engagement with financial companies, trade associations, nonbank financial companies subject to Council determinations, public interest groups, members of Congress and their staffs, and other stakeholders. At its open meeting on January 21, 2015, the Council discussed its engagement with stakeholders and changes recommended by staff to the Council's process for nonbank financial company determinations.

Based on its review, the Council has adopted the Supplemental Procedures, which the Council intends to use for determinations in non-emergency situations, to supplement its rule and interpretive guidance regarding nonbank financial company determinations.¹ The Council will continue to work to identify and evaluate additional potential enhancements to its practices and procedures that would promote the Council's commitment to active engagement with companies under consideration for a determination and to transparency to the public.

¹ Authority to Require Supervision and Regulation of Certain Nonbank Financial Companies, 12 CFR part 1310 (2013).

Patrick Pinschmidt,
Deputy Assistant Secretary for the Financial Stability Oversight Council, Department of the Treasury, Executive Director, Financial Stability Oversight Council.

[FR Doc. 2015-02812 Filed 2-10-15; 8:45 am]

BILLING CODE 4810-25-P-P